DEPARTMENT OF LABOR

Employment and Training Administration

Program Year (PY) 2019 Workforce Innovation and Opportunity Act (WIOA) Section 167, National Farmworker Jobs Program (NFJP) Grantee Allotments

AGENCY: Employment and Training Administration (ETA), Labor.

ACTION: Notice.

SUMMARY: This Notice announces allotments for Program Year (PY) 2019 for the WIOA Title I Section 167 National Farmworker Jobs Program, as required under Section 182(d) of the Workforce Innovation and Opportunity Act of 2014. The Department of Defense and Labor, Health and Human Services, and Education Appropriations Act, 2019, and Continuing Appropriations Act, 2019, enacted September 28, 2018, provides $82,447,000 for formula grants and another $5,922,000 for migrant and seasonal farmworker housing (of which not less than 70 percent shall be for permanent housing). Another $527,000 will be set aside for discretionary purposes.

The formula was developed for the purpose of distributing funds geographically by State service area, on the basis of each State service area's relative share of persons eligible for the program. The formula's methodology was described in a notice published in the Federal Register on May 19, 1999 (64 FR 27390). That information is accessible at https://www.federalregister.gov/.

Beginning with PY 2018, ETA incorporated two modifications to the allotment formula, with the goal of providing more accurate estimates of each State service area's relative share of persons eligible for the program. The formula also used updated data from each of the four data files serving as the basis of the formula since 1999. Based on the new estimates, the Department of Labor (DOL or Department) instituted a hold-harmless provision for PY 2018 and two following years. The hold-harmless provision is designed to provide a staged transition from old to new funding levels for State service areas and minimize the impact on those states incurring significant change.

DATES: The PY 2019 NFJP allotments become effective July 1, 2019 through June 30, 2020.

ADDRESSES: Questions on this notice can be submitted to the Employment and Training Administration, Office of Workforce Investment, 200 Constitution Ave. NW, Room C4510, Washington, DC 20210, Attention: Laura Ibañez, Unit Chief, (202) 693-3645 or Steven Rietzke, Division Chief at (202) 693-3912, or at NFJP@dol.gov. Individuals with hearing or speech impairments may access the telephone numbers above via TTY by calling the toll-free Federal Information Relay Service at 1-877-889-5627 (TTY-TDD).

SUPPLEMENTARY INFORMATION: This notice is published pursuant to Section 182(d) of the WIOA, Prompt Allotment of Funds.

I. Background

The Department is announcing final PY 2019 allotments for the NFJP. This notice provides information on the amount of funds available during PY 2019 to State service areas awarded grants through the PY 2016 Funding Opportunity Announcement (FOA) for the NFJP Career Services and Training and Housing Assistance Grants. The allotments are based on the funds appropriated in the Department of Defense and Labor, Health and Human Services, and Education Appropriations Act, 2019, and Continuing Appropriations Act, 2019, Public Law 115-245, enacted September 28, 2018, (from this point forward, referred to as “the Act”). In appropriating these funds, Congress provided $82,447,000 for Career Services and Training Grants; $5,922,000 for Housing Assistance Grants; and $527,000 for discretionary purposes. Included below is the table listing the PY 2019 allotments for the NFJP Career Services and Training Grants, as well as the sub-allocation table for the state of California. California is the only State service area with more than one grant; the current sub-allocation formula for California was developed in collaboration with the existing grantees. Individual grants are awarded for Housing Assistance as a result of the grants competition and are further distributed according to language in the appropriations law requiring that of the total amount available, not less than 70 percent shall be allocated to permanent housing activities, leaving not more than 30 percent to temporary housing activities.

II. Description of Updated Data Files and Proposed Modifications to the Allotment Formula

As with all State planning estimates since 1999, the PY 2019 estimates are based on four data sources: (1) State-level, 2012 hired farm labor expenditure data from the United States Department of Agriculture's (USDA) Census of Agriculture (COA); (2) regional-level, 2012 average hourly earnings data from the USDA's Farm Labor Survey; (3) regional-level, 2006-2014 demographic data from the ETA's National Agricultural Workers Survey (NAWS); and, (4) 2010-2014 (5-year file) Lower Living Standard Income Level data from the United States Census Bureau's American Community Survey. A detailed description of how each data source is used within the formula is in the May 19, 1999 FRN (pages 27396 to 27399).

Two modifications were incorporated into the formula in PY 2018, and the formula for PY 2019 retains those modifications. `Back-out' adjustments were made to the COA hired labor expenditures (Wage Bill) to account for: (1) Unemployment Insurance (UI) payroll tax payments made on behalf of farm workers; and (2) expenditures on H-2A workers. The modifications allowed DOL to more accurately estimate each State's share of the NFJP-eligible population. The first modification removed non-wages from COA farm labor expenditures. UI payroll tax payments, which vary by State, are not wages. The second modification removed labor expenditures on H-2A workers from COA farm labor expenditures to align the allotment formula with the NFJP-eligible population. H-2A workers may only be provided emergency services. Additional information regarding these modifications is located in the May 23, 2018 FRN 83 (pages 23937 to 23940) and the July 11, 2018 FRN 83 (pages 32151 to 32155).

III. Description of the Hold-Harmless Provision

For PY 2019 and 2020, the Department will continue the hold-harmless provision to the allotment formula in order to allow a staged transition from the application of the previous formula to the modified formula. The hold-harmless provision provides for a stop loss/stop gain limit to transition to the use of the updated data. Due to the length of time between updates, there were significant changes for a few states, necessitating the stop loss/stop gain approach. This approach is based on a State service area's previous year's allotment percentage share, which is its relative share of the total formula allotments. The staged transition of the hold-harmless provision is proposed specifically as follows:

(1) In PY 2018, State service areas received an amount equal to 95 percent of their PY 2017 allotment percentage share, as applied to the PY 2018 formula funds available;

(2) In PY 2019, State service areas will receive an amount equal to 90 percent of their PY 2018 allotment percentage share, as applied to the PY 2019 formula funds available;

(3) In PY 2020, State service areas will receive an amount equal to at least 85 percent of their PY 2019 allotment percentage share, as applied to the PY 2020 formula funds available.

In PY 2019 and 2020, the hold-harmless provision also provides that no State service area will receive an amount that is more than 150 percent of their previous year's allotment percentage share.

IV. Minimum Funding Provisions

A State area which would receive less than $60,000 by application of the formula will, at the option of the DOL, receive no allotment or, if practical, be combined with another adjacent State area. Funding below $60,000 is deemed insufficient for sustaining an independently administered program. However, if practical, a State jurisdiction which would receive less than $60,000 may be combined with another adjacent State area.

V. Program Year 2019 Preliminary Planning Estimates

For PY 2019, ETA based estimated funding on the funding levels provided for in the Department of Defense and Labor, Health and Human Services, and Education Appropriations Act for the migrant and seasonal farmworker program, of which $82,447,000 was allotted to career services and training grants and $5,922,000 was allotted to housing grants on the basis of the formula. The State service area allotment table shows the application of the second-year (90 percent) hold-harmless and minimum funding provisions versus what was allotted in PY 2018, followed by the difference in dollar amounts from PY 2018, and the total percentage change (positive or negative).

Signed at Washington, DC.
Molly E. Conway,
Assistant Secretary, Employment and Training Administration.

U.S. Department of Labor Employment and Training Administration National Farmworker Jobs Program—Career Services and Training Grants PY 2019 Impact To Grant Allotments With Stop Loss/Stop Gain
State | PY 2018 95% stop loss/ 150% stop gain | PY 2019 90% stop loss/ 150% stop gain | Difference ($) | Difference (%)
Total | $81,203,000 | $82,447,000 | $1,244,000 | 1.53
Alabama | 780,688 | 751,290 | (29,398) | −3.77
Alaska |  |  |  | 0.00
Arizona | 2,208,505 | 2,378,836 | 170,331 | 7.71
Arkansas | 1,128,611 | 1,072,255 | (56,356) | −4.99
California | 20,302,807 | 21,868,660 | 1,565,853 | 7.71
Colorado | 1,172,108 | 1,262,507 | 90,399 | 7.71
Connecticut | 350,127 | 377,130 | 27,003 | 7.71
Delaware | 135,621 | 146,081 | 10,460 | 7.71
District of Columbia |  |  |  | 0.00
Florida | 4,087,192 | 3,734,826 | (352,366) | −8.62
Georgia | 1,510,489 | 1,566,766 | 56,277 | 3.73
Hawaii | 325,797 | 301,846 | (23,951) | −7.35
Idaho | 1,546,823 | 1,666,122 | 119,299 | 7.71
Illinois | 1,520,015 | 1,637,247 | 117,232 | 7.71
Indiana | 996,927 | 1,073,815 | 76,888 | 7.71
Iowa | 1,381,814 | 1,488,387 | 106,573 | 7.71
Kansas | 1,061,734 | 1,143,620 | 81,886 | 7.71
Kentucky | 1,193,671 | 1,090,762 | (102,909) | −8.62
Louisiana | 897,859 | 820,452 | (77,407) | −8.62
Maine | 288,925 | 308,242 | 19,317 | 6.69
Maryland | 357,371 | 362,410 | 5,039 | 1.41
Massachusetts | 317,464 | 341,568 | 24,104 | 7.59
Michigan | 1,852,921 | 1,995,828 | 142,907 | 7.71
Minnesota | 1,418,215 | 1,527,595 | 109,380 | 7.71
Mississippi | 1,278,771 | 1,168,525 | (110,246) | −8.62
Missouri | 971,866 | 923,513 | (48,353) | −4.98
Montana | 588,789 | 589,076 | 287 | 0.05
Nebraska | 1,127,274 | 1,214,215 | 86,941 | 7.71
Nevada | 177,200 | 178,911 | 1,711 | 0.97
New Hampshire | 100,577 | 108,334 | 7,757 | 7.71
New Jersey | 686,369 | 627,196 | (59,173) | −8.62
New Mexico | 933,298 | 983,177 | 49,879 | 5.34
New York | 1,633,201 | 1,492,399 | (140,802) | −8.62
North Carolina | 2,652,776 | 2,472,721 | (180,055) | −6.79
North Dakota | 720,475 | 776,042 | 55,567 | 7.71
Ohio | 1,242,028 | 1,328,722 | 86,694 | 6.98
Oklahoma | 1,254,634 | 1,146,469 | (108,165) | −8.62
Oregon | 2,129,586 | 2,293,830 | 164,244 | 7.71
Pennsylvania | 1,522,968 | 1,392,650 | (130,318) | −8.56
Puerto Rico | 3,014,964 | 2,755,037 | (259,927) | −8.62
Rhode Island | 52,828 | 56,902 | 4,074 | 7.71
South Carolina | 953,186 | 871,010 | (82,176) | −8.62
South Dakota | 611,453 | 572,272 | (39,181) | −6.41
Tennessee | 845,253 | 838,575 | (6,678) | −0.79
Texas | 6,578,359 | 6,011,223 | (567,136) | −8.62
Utah | 406,255 | 437,588 | 31,333 | 7.71
Vermont | 188,091 | 174,107 | (13,984) | −7.43
Virginia | 914,652 | 939,663 | 25,011 | 2.73
Washington | 3,931,488 | 4,234,704 | 303,216 | 7.71
West Virginia | 193,552 | 176,865 | (16,687) | −8.62
Wisconsin | 1,426,806 | 1,536,848 | 110,042 | 7.71
Wyoming | 230,617 | 230,181 | (436) | −0.19

U.S. Department of Labor Employment and Training Administration National Farmworker Jobs Program PY 2019 Career Services and Training Grant Allotments
State | Total
Total | $82,447,000
Alabama | 751,290
Alaska
Arizona | 2,378,836
Arkansas | 1,072,255
California | 21,868,660
Colorado | 1,262,507
Connecticut | 377,130
Delaware | 146,081
District of Columbia |
Florida | 3,734,826
Georgia | 1,566,766
Hawaii | 301,846
Idaho | 1,666,122
Illinois | 1,637,247
Indiana | 1,073,815
Iowa | 1,488,387
Kansas | 1,143 ,620
Kentucky | 1,090,762
Louisiana | 820,452
Maine | 308,242
Maryland | 362,410
Massachusetts | 341,568
Michigan | 1,995,828
Minnesota | 1,527,595
Mississippi | 1,168,525
Missouri | 923,513
Montana | 589,076
Nebraska | 1,214,215
Nevada | 178,911
New Hampshire | 108,334
New Jersey | 627,196
New Mexico | 983,177
New York | 1,492,399
North Carolina | 2,472,721
North Dakota | 776,042
Ohio | 1,328,722
Oklahoma | 1,146,469
Oregon | 2,293,830
Pennsylvania | 1,392,650
Puerto Rico | 2,755,037
Rhode Island | 56,902
South Carolina | 871,010
South Dakota | 572,272
Tennessee | 838,575
Texas | 6,011,223
Utah | 437,588
Vermont | 174,107
Virginia | 939,663
Washington | 4,234,704
West Virginia | 176,865
Wisconsin | 1,536,848
Wyoming | 230,181

California Career Services and Training Grants
Grantee | Total
California Human Development Corporation | 4,067,571
Proteus, Inc | 4,439,338
Center for Employment Training, Inc | 8,791,201
County of Kern, Employers Training Resource | 2,493,027
Central Valley Opportunities Centers, Inc | 2,077,523
Total | 21,868,660

[FR Doc. 2019-14731 Filed 7-10-19; 8:45 am]

BILLING CODE 4510-FN-P